DEPARTMENT OF COMMERCE

Foreign-Trade Zones Board

[B-65-2016]

Foreign-Trade Zone (FTZ) 158—Vicksburg/Jackson, Mississippi; Authorization of Limited Production Activity; MTD Consumer Group, Inc. (Lawn and Garden Equipment); Verona, Mississippi

On September 13, 2016, MTD Consumer Group, Inc., submitted a notification of proposed production activity to the Foreign-Trade Zones (FTZ) Board for its facility within FTZ 158—Site 17, in Verona, Mississippi. The notification was processed in accordance with the regulations of the FTZ Board (15 CFR part 400), including notice in the Federal Register inviting public comment (81 FR 68404, October 4, 2016). The FTZ Board has determined that further review of part of the proposed activity is warranted at this time. The production activity described in the notification is authorized on a limited basis, subject to the FTZ Act and the Board's regulations, including Section 400.14, and further subject to a restriction requiring that foreign-status textile grass catcher bags be admitted in domestic/duty-paid status (19 CFR 146.43).

Dated: January 11, 2017.
Andrew McGilvray,
Executive Secretary.

[FR Doc. 2017-01213 Filed 1-18-17; 8:45 am]

BILLING CODE 3510-DS-P